DEPARTMENT OF HEALTH AND HUMAN SERVICES

Food and Drug Administration

[Docket No. FDA-2012-N-0001]

Food Labeling Workshop; Public Workshop

AGENCY: Food and Drug Administration, HHS.

ACTION: Notice of public workshop.

The Food and Drug Administration (FDA), Office of Regulatory Affairs (ORA), Dallas District Office (DALDO), in collaboration with Oklahoma State University (OSU), Robert M. Kerr Food & Agricultural Products Center (FAPC), is announcing a public workshop entitled “Food Labeling Workshop.” This public workshop is intended to provide information about FDA food labeling regulations and other related subjects to the regulated industry, particularly small businesses and startups.

Date and Time: This public workshop will be held on April 24 and 25, 2012, from 8 a.m. to 5 p.m.

Location: This public workshop will be held at FAPC, OSU, 148 FAPC, Stillwater, OK 74078-6055.

Contact: David Arvelo, Office of Regulatory Affairs, Food and Drug Administration, Southwest Regional Office, 4040 North Central Expressway, Suite 900, Dallas, TX 75204, 214-253-4952, FAX: 214-253-4970, email: david.arvelo@fda.hhs.gov.

For information on accommodation options, contact conference coordinators Karen Smith or Andrea Graves at FAPC, OSU, 148 FAPC, Stillwater, OK 74078-6055, 405-744-6071, FAX: 405-744-6313, or email: karenl.smith@okstate.edu or andrea.graves@okstate.edu. More information is also available online at http://www.fapc.biz/foodlabeling.html. (FDA has verified the Web site address, but we are not responsible for any subsequent changes to the Web site after this document publishes in the Federal Register.)

Registration: You are encouraged to register by April 10, 2012. The workshop has a $400 registration fee to cover the cost of facilities, materials, lunch, and breaks. Seats are limited; please submit your registration as soon as possible. Workshop space will be filled in order of receipt of registration. Those accepted into the workshop will receive confirmation. Registration will close after the workshop is filled. Registration at the site is not guaranteed but may be possible on a space available basis on the day of the public workshop beginning at 8 a.m. The cost of registration at the site is $400 payable to FAPC. There are no registration fees for FDA employees.

If you need special accommodations due to a disability, please contact Karen Smith (see Contact) at least 7 days in advance.

Registration Form Instructions: To register, please complete the online registration form at http://www.fapc.biz/forms/foodlabeling.htm.

Transcripts: Transcripts of the public workshop will not be available due to the format of this workshop. Course handouts may be requested after the date of the public workshop through the contact persons (see Contact) at cost plus shipping.

SUPPLEMENTARY INFORMATION: This public workshop is being held in response to the large volume of food labeling inquiries from small food manufacturers and startups originating from the area covered by the FDA DALDO. FDA DALDO presents this workshop to help achieve objectives set forth in section 406 of the Food and Drug Administration Modernization Act of 1997 (21 U.S.C. 393), which include working closely with stakeholders and maximizing the availability and clarity of information to stakeholders and the public. This is consistent with the purposes of ORA's Small Business Representative Program, which are in part to respond to industry inquiries, develop educational materials, and sponsor workshops and conferences to provide firms, particularly small businesses, with firsthand working knowledge of FDA's requirements and compliance policies. This workshop is also consistent with the Small Business Regulatory Enforcement Fairness Act of 1996 (Pub. L. 104-121), as outreach activities by government agencies to small businesses.

The goal of this public workshop is to present information that will enable manufacturers and regulated industry to better comply with labeling requirements, especially in light of growing concerns about obesity and food allergens. Information presented will be based on Agency position as articulated through regulation, compliance policy guides, and information previously made available to the public. Topics to be discussed at the workshop include: (1) Mandatory label elements, (2) the Food Allergen Labeling and Consumer Protection Act of 2004, (3) nutrition labeling requirements, (4) health and nutrition claims, and (5) special labeling issues, such as exemptions. FDA expects that participation in this public workshop will provide regulated industry with greater understanding of the Agency's regulatory and policy perspectives on food labeling and increase voluntary compliance with labeling requirements.

Dated: February 23, 2012.
Leslie Kux,
Acting Assistant Commissioner for Policy.

[FR Doc. 2012-4782 Filed 2-28-12; 8:45 am]

BILLING CODE 4160-01-P